DEPARTMENT OF ENERGY

Federal Energy Regulatory Commission

[Docket No. CP02-74-000]

Reef International, L.L.C.; Notice of Intent To Prepare an Environmental Assessment for the Proposed Eagle Pass International Pipeline Project and Request for Comments on Environmental Issues

March 15, 2002.

The staff of the Federal Energy Regulatory Commission (FERC or Commission) will prepare an environmental assessment (EA) that will discuss the environmental impacts of the Eagle Pass International Pipeline Project involving the construction and operation of facilities by Reef International, L.L.C. (Reef) in Maverick County, Texas, and that cross the international border between the United States and Mexico.¹ The EA will be used by the Commission in its decision-making process to determine whether the project is in the public convenience and necessity.

¹ Reef's application was filed with the Commission on January 22, 2002, under Section 3 of the Natural Gas Act.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Reef provided to landowners. This fact sheet addresses a number of typically asked questions, including the use of eminent domain and how to participate in the Commission's proceedings. It is available for viewing on the FERC Internet website (www.ferc.fed.us).

Summary of the Proposed Project

Reef is proposing the Eagle Pass International Pipeline Project to provide firm transportation to Compania National de Gas, S.A. (Conagas). This project would allow Reef to deliver up to 15 million cubic feet per day. The purpose of the project is to provide the Piedras Negras region of Coahuila, Mexico, with needed, additional supplies of gas.

Reef proposes to construct, operate, and maintain about 4 miles of 12-inch-diameter pipeline and appurtenant facilities from an interconnection with Southern Transmission Company (Southern) in Maverick County, Texas, crossing under the Rio Grande, the midpoint of which is the International Boundary between the United States and Mexico, to a point just across the river in Coahuila, Mexico. Reef is seeking a Presidential Permit from the Commission for the 400-foot-long border crossing in Maverick County, Texas which is the U.S. portion of the directional drill across the Rio Grande. The entire directional drill would be 800 feet in length, half of which would be in Mexico. A meter station would be constructed in Maverick County about 2,035 feet downstream from the interconnection with Southern. About 1000 feet of pipeline and a meter station would be constructed in Mexico and would be owned and operated by Conagas. Also, a 6-inch-diameter propane/butane pipeline would also be constructed parallel to the natural gas pipeline for about 3 miles of the route within the U.S. and also cross into Mexico.

Land Requirements for Construction Construction of Reef's proposed facilities would require about 25.3 acres of land, including construction right-of-way for the new pipeline and extra work areas needed for the directional drill. The pipeline would be constructed adjacent to existing sanitary sewer and utility easements for 72 percent of the route. For the construction of the pipeline, Reef would use a 50-foot-wide construction right-of-way. Reef indicates that it would maintain a 30-foot-wide permanent right-of-way totaling 14.55 acres. The meter station and access road would be located within a 5.53 acre location adjacent to an industrial area. About 5 acres would be needed for a pipe and contractor yard, although this location has not yet been determined.

The EA Process

The National Environmental Policy Act (NEPA) requires the Commission to take into account the environmental impacts that could result from an action whenever it considers the issuance of a Certificate of Public Convenience and Necessity. NEPA also requires us ² to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

² “We”, “us”, and “our”, refer to the environmental staff of the Office of Energy Projects (OEP).

The EA will discuss impacts that could occur as a result of the construction and operation of the proposed project under these general headings:

• Geology and soils

• Water resources and wetlands

• Vegetation and wildlife

• Threatened and endangered species

• Cultural resources

• Land use

• Reliability and safety

We will evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Reef. This preliminary list of issues may be changed based on your comments and our analysis.

—A directionally drilled crossing of the Rio Grande.

—Potential impact on the jaguarundi, ocelot, and mountain plover which are Federally listed threatened and endangered species.

—Loss of several acres of pecan orchard.

Public Participation

You can make a difference by providing us with your specific comments or concerns about the project. By becoming a commentor, your concerns will be addressed in the EA and considered by the Commission. You should focus on the potential environmental effects of the proposal, alternatives to the proposal (including alternative locations or routes), and measures to avoid or lessen environmental impact. The more specific your comments, the more useful they will be. Please carefully follow these instructions to ensure that your comments are received in time and properly recorded:

• Send an original and two copies of your letter to: Magalie R. Salas, Secretary, Federal Energy Regulatory Commission 888 First St., NE., Room 1A, Washington, DC 20426;

• Label one copy of the comments for the attention of Gas 1, PJ-11.1;

• Reference Docket No. CP02-74-000; and

• Mail your comments so that they will be received in Washington, DC on or before April 15, 2002.

Comments, protests, and interventions may be filed electronically via the Internet in lieu of paper. See 18 CFR 385.2001(a)(1)(iii) and the instructions on the Commission's web site at http://www.ferc.gov under the “e-Filing” link and link to the User's Guide. Before you can file comments you will need to create an account which can be created by clicking on “Login to File” and then “New User Account”.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 1).³ Only intervenors have the right to seek rehearing of the Commission's decision.

³ The appendix referenced in this notice are not being printed in the Federal Register. Copies are available on the Commission's website at the “RIMS” link or from the Commission's Public Reference and Files Maintenance Branch, 888 First Street, NE, Room 2A, Washington, DC 20426, or call (202) 208-1371. For instructions on connecting to RIMS refer to the last page of this notice. Copies of the appendices were sent to all those receiving this notice in the mail.

Affected landowners and parties with environmental concerns may be granted intervenor status upon showing good cause by stating that they have a clear and direct interest in this proceeding which would not be adequately represented by any other parties. You do not need intervenor status to have your environmental comments considered.

Copies of this filing are on file with the Commission and are available for public inspection. This filing may also be viewed on the web at http://www.ferc.gov using the “RIMS” link, select “Docket #” and follow the instructions (call 202-208-2222 for assistance).

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

Linwood A. Watson, Jr.,
Deputy Secretary.

[FR Doc. 02-6787 Filed 3-20-02; 8:45 am]

BILLING CODE 6717-01-P